ENVIRONMENTAL PROTECTION AGENCY

40 CFR Parts 180

[OPP-300976; FRL-6491-9]

RIN 2070-AB78

Methyl Parathion; Notice of Proposed Tolerance Revocations and Channels of Trade Provision Guidance

AGENCY: Environmental Protection Agency (EPA).

ACTION: Proposed rule.

SUMMARY: This document proposes to revoke the tolerances for the insecticide methyl parathion on the following commodities: apples, artichokes, beets (greens alone), beets (with or without tops), birdsfoot trefoil forage, birdsfoot trefoil hay, broccoli, Brussels sprouts, carrots, cauliflower, celery, cherries, collards, grapes, kale, lentils, kohlrabi, lettuce, mustard greens, nectarines, peaches, pears, plums (fresh prunes), rutabagas (with or without tops), rutabaga tops, spinach, tomatoes, turnips (with or without tops), turnip greens, vegetables leafy Brassica (cole), and vetch. Additionally, EPA proposes to amend the following tolerances: beans (amend to beans, dried), peas (amend to peas, dried) so that methyl parathion is not used on succulent beans and peas. Note that methyl parathion may still be used on lentils; however, residues on lentils are covered by the tolerance for peas, dried. Foods legally treated with methyl parathion may continue to be marketed under the provisions of the Federal Food, Drug, and Cosmetic Act (FFDCA). The regulatory actions proposed in this document are part of the Agency's reregistration program under the Federal Insecticide, Fungicide, and Rodenticide Act (FIFRA), and the tolerance reassessment requirements of the FFDCA. By law, EPA is required to reassess 66% of the tolerances in existence on August 2, 1996, by August 2002, or about 6,400 tolerances. These tolerances were established under section 408 of the FFDCA, 21 U.S.C. 346a. EPA is proposing to revoke these tolerances because the Agency has canceled the pesticide registrations under FIFRA, 7 U.S.C. 136 et seq., associated with them. EPA encourages you to comment on the tolerance revocations and on the proposed time frame for tolerance revocation.

The Food and Drug Administration (FDA) in a related notice published elsewhere in this issue of the Federal Register is announcing the availability of a proposed guidance document presenting FDA's policy on its planned enforcement approach for foods containing methyl parathion residues. This guidance will assist firms in understanding the types of showing under 408(1)(5) of the FFDCA (hereinafter referred to as the “channels of trade provision”) that FDA may find satisfactory in accordance with its planned enforcement approach for such section. EPA and FDA are cooperating on this effort. FDA will be asking for comment on this proposed guidance and EPA also encourages you to comment on this guidance.

DATES: Comments, identified by the docket control number [OPP-300976], must be received on or before August 1, 2000.

ADDRESSES: Comments may be submitted by mail, electronically, or in person. Please follow the detailed instructions for each method as provided in Unit I. of the SUPPLEMENTARY INFORMATION section of this proposed rule. Be sure to identify docket number OPP-300976.

FOR FURTHER INFORMATION CONTACT: Laura Parsons, Special Review and Reregistration Division (7508C), Office of Pesticide Programs, Environmental Protection Agency, 1200 Pennsylvania Avenue, NW., Washington, DC 20460. Office location: CM #2, 6th floor, 1921 Jefferson Davis Hwy., Arlington, VA, telephone: (703) 305-5776; e-mail: parsons.laura@epa.gov.

SUPPLEMENTARY INFORMATION:

I. General Information

A. Does This Action Apply to Me?

You may be affected by this action if you sell, distribute, manufacture, or use pesticides for agricultural applications, process food, distribute or sell food, or implement governmental pesticide regulations. Potentially affected categories and entities may include, but are not limited to the following:

Categories | NAICS codes | Examples of potentially affected entities
Industry | 111 | Crop production
| 112 | Animal production
| 311 | Food manufacturing
| 32532 | Pesticide manufacturing
Agricultural Stakeholders |  | Growers/Agricultural Workers, Contractors (Certified/Commercial Applicators, Handlers, Advisors, etc.), Commercial Processors, Pesticide Manufacturers, User Groups, Food Consumers
Food Distributors |  | Wholesale Contractors, Retail Vendors, Commercial Traders/Importers
Inter governmental Stakeholders |  | State, Local, and/or Tribal Government Agencies
Foreign Entities |  | Governments, Growers, Trade Groups, Exporters

This listing is not exhaustive, but is a guide to entities likely to be affected by this action. The North American Industrial Classification System (NAICS) codes will assist you in determining whether this action applies to you. If you have questions regarding the applicability of this action to a particular entity, consult the person listed under FOR FURTHER INFORMATION CONTACT.

B. How Can I Get Additional Information, Including Copies of This Document and Other Related Documents?

1. Electronically. You may obtain electronic copies of this document, and certain other related documents that might be available electronically, from the EPA Internet Home Page at http://www.epa.gov/. To access this document, on the Home Page select “Laws and Regulations” and then look up the entry for this document under the “Federal Register-Environmental Documents.” You can also go directly to the Federal Register listings at http://www.epa.gov/fedrgstr/.

2. In person. The Agency has established an official record for this action under docket control number OPP-300976. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-300976 in the subject line on the first page of your response.

1. By mail. Submit your comments to: Public Information and Records Integrity Branch (PIRIB), Information Resources and Services Division (7502C), Office of Pesticide Programs (OPP), Environmental Protection Agency, 401 M St., SW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: “opp-docket@epa.gov,” or you can submit a computer disk as described above. Do not submit any information electronically that you consider to be CBI. Avoid the use of special characters and any form of encryption. Electronic submissions will be accepted in WordPerfect 6.1/8.0 or ASCII file format. All comments in electronic form must be identified by docket control number OPP-300976. Electronic comments may also be filed online at many Federal Depository Libraries.

D. How Should I Handle CBI That I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the proposed rule or collection activity.

7. Make sure to submit your comments by the deadline in this document.

8. To ensure proper receipt by EPA, be sure to identify the docket control number assigned to this action in the subject line on the first page of your response. You may also provide the name, date, and Federal Register citation.

II. Background

A. General

In August 1999, the methyl parathion registrants submitted requests to voluntarily cancel registration of products containing methyl parathion for certain uses as the result of an agreement reached between EPA and the registrants. Given the risks associated with use of methyl parathion under the existing terms and conditions of use, EPA granted the requests for voluntary cancellation. In the Federal Register of October 27, 1999 (64 FR 57877) (FRL-6387-8), EPA published a notice announcing the cancellation of all methyl parathion uses on fruits and most uses on vegetables. The notice of voluntary cancellation, the date of allowable use, and the intent to revoke the methyl parathion tolerances were widely publicized. The U.S. Department of Agriculture (USDA) sent notification to our trading partners through the World Trade Organization notification procedures. EPA also notified the regulatory authorities in over 145 countries as per FIFRA 17(b). For the canceled crops, use of existing stocks of methyl parathion was allowed until December 31, 1999.

On August 2, 1999, the EPA Administrator stated that while the current food supply is safe, the cancellation of certain uses of methyl parathion makes the food supply safer. This action is part of EPA's overall effort to reduce risks to the food supply under the Congressional mandate imposed by the Food Quality Protection Act (FQPA).

B. What Action Is The Agency Taking?

After consultation with FDA, USDA and stakeholders, EPA is proposing to revoke the tolerances for the insecticide methyl parathion on the following commodities: apples, artichokes, beets (greens alone), beets (with or without tops), birdsfoot trefoil forage, birdsfoot trefoil hay, broccoli, Brussels sprouts, carrots, cauliflower, celery, cherries, collards, grapes, kale, kohlrabi, lentils, lettuce, mustard greens, nectarines, peaches, pears, plums (fresh prunes), rutabagas (with or without tops), rutabaga tops, spinach, tomatoes, turnips (with or without tops), turnip greens, vegetables leafy Brassica (cole), and vetch. Additionally, EPA proposes to amend the following tolerances: beans (amend to beans, dried), peas (amend to peas, dried) so that methyl parathion is not used on succulent beans and peas. Note that methyl parathion may still be used on lentils; however, residues on lentils are covered by the tolerance for peas, dried, and therefore, the tolerance on lentils is proposed for revocation because it is unnecessary.

C. Why Is This Action Being Proposed?

Under FFDCA section 408(l)(2), if EPA cancels each FIFRA registration for the use of a pesticide on a food “due in whole or in part to dietary risks to humans posed by residues of that pesticide chemical on food,” EPA is required to revoke any tolerance or exemption that in connection with the canceled use allows residues of the pesticide on food. This provision imposes a mandatory duty on EPA. Once EPA cancels a FIFRA use due to dietary risks, EPA must revoke the associated tolerances and exemptions. Under 408(l)(5), foods legally treated prior to the use cancellation may continue to be marketed.

On August 2, 1999, EPA completed a refined risk assessment of methyl parathion as part of the tolerance reassessment program under section 408(q) of the FFDCA. This dietary risk assessment was based on residues of methyl parathion detected in some foods from USDA's Pesticide Data Program which monitors for pesticides in certain foods at the distribution points just before release to supermarkets and grocery stores. The assessment was conducted applying an additional 10-fold safety factor to increase the margin of safety as mandated by FQPA. That refined risk assessment showed acute dietary risks from methyl parathion in food above the EPA's level of concern (Revised Human Health Risk Assessment for Methyl Parathion, August 1999). The registrants' request for cancellation was in response to potential Agency action to revoke the tolerances and cancel the registrations because of dietary risk, and thus the cancellation action was “due in whole or part to dietary risks to humans posed by residues of that pesticide chemical on food.” Accordingly, under section 408(l)(2), the above-described tolerances must be revoked.

On October 27, 1999, EPA published a notice in the Federal Register (64 FR 57877) announcing the cancellation of multiple FIFRA registered uses including those commodities for which tolerance revocation has been proposed in the document.

Although this cancellation notice was requested by the methyl parathion registrants, the cancellation closely followed, and in EPA's view, was precipitated by EPA's determination that aggregate exposure to methyl parathion exceeded the revised, more stringent safety standard under the FQPA.

D. What Is the Agency's Authority for Taking This Action?

A “tolerance” represents the maximum level for residues of pesticide chemicals legally allowed in or on raw agricultural commodities and processed foods. Section 408 of FFDCA, 21 U.S.C. 346a, as amended by the FQPA of 1996, Public Law 104-170, authorizes the establishment of tolerances, exemptions from tolerance requirements, modifications in tolerances, and revocation of tolerances for residues of pesticide chemicals in or on raw agricultural commodities and processed foods. Without a tolerance or exemption, food containing pesticide residues is considered to be unsafe and therefore “adulterated” under section 402(a) of the FFDCA. 21 U.S.C. 342(a). FFDCA section 301 prohibits, among other things, introduction or delivery for introduction into interstate commerce of any adulterated food. 21 U.S.C. 331(a). For a food-use pesticide to be sold and distributed, the pesticide must be registered under section 3, section 5, or section 18 of FIFRA (7 U.S.C. et seq.) Food-use pesticides not registered in the United States may have tolerances for residues of such pesticides in or on commodities imported into the United States.

Monitoring and enforcement of pesticide tolerances and exemptions are carried out by the FDA and the USDA. This includes monitoring for pesticide residues in or on commodities imported into the United States.

E. When Do These Actions Become Effective?

Under FFDCA section 408(l)(2), revocations required by that provision must take place not later than 180 days after the date such cancellation takes effect or the date on which the use of the canceled pesticide becomes unlawful under the terms of the cancellation, whichever is later. The date for the cancellation of the FIFRA registrations for the affected methyl parathion uses is October 27, 1999. Use of methyl parathion on the affected crops became unlawful on December 31, 1999.

EPA intends to finalize this action as quickly as possible after consideration of comments. The tolerance revocation is proposed to be effective on the date of final publication.

F. Will Food Treated Prior to the Last Lawful Date of Application Be Permitted to Clear the Channels of Trade?

Any commodities listed in the regulatory text of this document that are treated with the methyl parathion, and that are in the channels of trade following the tolerance revocations, shall be subject to FFDCA section 408(l)(5), as established by the FQPA. Under this section, any residue of methyl parathion in or on such commodities shall not render the commodities adulterated so long as it is shown to the satisfaction of FDA that:

1. The residue is present as the result of an application or use of the pesticide at a time and in a manner that was lawful under FIFRA.

2. The residue does not exceed the level that was authorized at the time of the application or use to be present on the food under a tolerance or exemption from a tolerance. The channels of trade provision allows for the orderly marketing of foods that may currently contain legal residues resulting from lawful applications of methyl parathion.

Use of methyl parathion as to the canceled uses became unlawful under FIFRA on December 31, 1999, the last date on which use of existing stocks was permitted. Although application of methyl parathion outside the United States is outside the scope of the limitation on use of existing stocks and thus is not per se prohibited after December 31, 1999, EPA considers commodities with residues resulting from application outside the U.S. after that date not to be subject to the channels of trade provision in 408(l)(5). Therefore, both domestic and foreign commodities treated subsequent to December 31, 1999, would not be present as the result of an application or use of the pesticide at a time and in a manner that was lawful under FIFRA, and thus, would not comply with the channels of trade provision.

FDA is announcing, elsewhere in this issue of the Federal Register, the availability of proposed guidance document on how it plans to enforce FFDCA section 408(l)(5) for both domestic and imported commodities. FDA will invite comment on this draft guidance before issuing any final guidance. EPA encourages all interested parties to comment on FDA's draft guidance.

G. May Interested Persons Comment on This Proposal?

Yes. EPA is requesting comment on this proposal. In particular, EPA requests comment on the following issues:

1. Under FQPA, EPA indentified dietary risk from certain uses of methyl parathion. In light of this risk, the methyl parathion registrants proposed voluntary cancellation of certain uses under the August 2, 1999 Memorandum of Agreement. EPA interprets 408(l)(2) of the FFDCA which calls for tolerance revocation within 180 days of final use to apply to both cancellations effected through FIFRA 6(f) (voluntary action by a registrant) and those effected through FIFRA 6(b) (an Agency initiated cancellation action). The Agency seeks comment on the application of 408(l)(2) to voluntarily initiated cancellations.

2. Are there any alternate approaches within the legal confines of the FFDCA for avoiding any potential problems to commerce or trade caused by revocation of these tolerances subject to the channels of trade provision?

3. EPA is also providing the opportunity to comment on the methyl parathion registrants requests to cancel various methyl parathion uses. See Unit IV.

H. What Can I Do If I Wish the Agency to Maintain a Tolerance That the Agency Is Proposing to Revoke?

Given the language of section 408(l)(2) and the dietary risks posed by these uses and tolerances for methyl parathion, EPA does not believe that these tolerances can be maintained in compliance with FFDCA. However, any person may petition EPA to establish new tolerances. Petitioners should consult EPA regulations and guidance on the necessary data and information to support tolerance petitions.

I. What Is the Contribution to Tolerance Reassessment?

By law, EPA is required to reassess 66% or about 6,400 of the tolerances in existence on August 2, 1996, by August 2002. EPA is also required to assess the remaining tolerances by August 2006. As of April 25, 2000, EPA has assessed over 3,471 tolerances. This document proposes to revoke 30 methyl parathion tolerances; however, 27 of these 30 tolerances are expressed as parathion which may be either ethyl parathion or methyl parathion and 3 of the 30 tolerances are methyl parathion alone. Therefore, 3 tolerances will be counted among reassessments made toward the August 2002 review deadline of FFDCA section 408(q), as amended by FQPA in 1996.

III. Are the Proposed Actions Consistent With International Obligations?

The tolerance revocations in this proposal are not discriminatory and are designed to ensure that both domestically-produced and imported foods meet the food safety standards established by the FFDCA. The same food safety standards apply to domestically-produced and imported foods. In addition, EPA is proposing to revoke these tolerances because it received voluntary requests to cancel the related methyl parathion registrations which was precipitated by EPA's risk assessment showing dietary risks from methyl parathion.

EPA is working to ensure that the U.S. tolerance reassessment program under FQPA does not disrupt international trade. EPA considers Codex Maximum Residue Limits (MRLs) in setting U.S. tolerances and in reassessing them. MRLs are established by the Codex Committee on Pesticide Residues, a committee within the Codex Alimentarius Commission, an international organization formed to promote the coordination of international food standards. It is EPA's policy to harmonize U.S. tolerances with Codex MRLs to the extent possible, provided that the MRLs achieve the level of protection required under FFDCA. EPA's effort to harmonize with Codex MRLs is summarized in the tolerance reassessment section of individual Reregistration Eligibility Decision documents. The U.S. EPA has developed guidance concerning submissions for import tolerance support. This guidance will be made available to interested persons.

IV. Request for Comment on the Request for Cancellation of the Methyl Parathion Registrations

In a Memorandum of Agreement effective August 2, 1999, all registrants of products containing methyl parathion agreed to request cancellation of their registrations for use of methyl parathion on all fruits, many vegetables, and all non-food and non-feed uses. Those requests for cancellation were received shortly thereafter, and EPA published a notice in the Federal Register announcing those requests and accepting them (64 FR 57877). That notice informed the public of how it could comment on the request for cancellation but also stated that EPA was waiving the comment period and approving the cancellation request upon the date of publication of the notice.

Several parties have filed an action against the Agency claiming that EPA unlawfully did not allow comment on the request for cancellation of methyl parathion. Actually, EPA provided several opportunities for comment concerning methyl parathion. Comments on the risk assessment were provided by several parties. After considering these comments and reaching agreement with the methyl parathion registrants, EPA released its revised risk assessment of methyl parathion to the public on August 3, 1999. A small number of comments were received on this revised assessment which did not alter the risk conclusions. Additionally, no comments were submitted on the Federal Register notice announcing receipt and acceptance of the cancellation requests.

Nonetheless, to assure that all affected parties have an opportunity to comment on the methyl parathion cancellations, EPA is allowing further comments on the registrants' requests for cancellation of the above-referenced methyl parathion uses. Although these cancellation requests have already been accepted, such comments would still be relevant to Agency decision making. First, such comments may influence EPA regarding whether it is appropriate to press forward with the proposed tolerance revocation. If it can be shown that EPA erred in accepting these cancellation requests, EPA will need to consider whether revocation of associated tolerances is the proper course. Second, EPA believes that one of the primary purposes of the comment period on cancellation requests is to allow other parties to come forward and seek a registration for the affected pesticide. That opportunity still exists and any interested party can so notify EPA by filing a registration application. EPA would note, however, that such applicant would have to overcome the risk concerns that EPA has identified regarding methyl parathion.

V. How Do the Regulatory Assessment Requirements Apply to This Proposed Action?

This action is proposing to revoke tolerances established under FFDCA section 408. The Office of Management and Budget (OMB) has exempted this type of action, i.e., a tolerance revocation for which extraordinary circumstances do not exist, from review under Executive Order 12866, entitled Regulatory Planning and Review (58 FR 51735, October 4, 1993). This action does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any prior consultation as specified by Executive Order 13084, entitled Consultation and Coordination with Indian Tribal Governments (63 FR 27655, May 19,1998); special considerations as required by Executive Order 12898, entitled Federal Actions to Address Environmental Justice in Minority Populations and Low-Income Populations (59 FR 7629, February 16, 1994); or require OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether revocations of tolerances might significantly impact a substantial number of small entities and concluded that, as a general matter, these actions do not impose a significant economic impact on a substantial number of small entities. The factual basis and the Agency's certification under section 605(b) for tolerance revocations published on December 17, 1997 (62 FR 66020), and was provided to the Chief Counsel for Advocacy of the Small Business Administration. Since no extraordinary circumstances exist as to the present revocation that would change EPA's previous analysis, the Agency is able to reference the general certification. Any comments about the Agency's determination should be submitted to EPA along with comments on the proposal, and will be addressed prior to issuing a final rule.

In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of FFDCA section 408(n)(4).

List of Subjects in 40 CFR Part 180

Environmental protection, Administrative practice and procedure, Agricultural commodities, Pesticides and pests, Reporting and recordkeeping requirements.

Dated: May 19, 2000.
Jack E. Housenger,
Director, Special Review and Reregistration Division, Office of Pesticide Programs.

Therefore, it is proposed that 40 CFR part 180 be amended as follows:

PART 180—[AMENDED]

1. The authority citation for part 180 continues to read as follows:

Authority: 21 U.S.C. 321(q), 346a and 371.

2. Section 180.121 is revised to read as follows:

§ 180.121 Parathion or its methyl homolog; tolerances for residues.

(a) General. (1) Tolerances are established for residues of the insecticide parathion (O,O-Diethyl-O-p-nitrophenyl thiophosphate) or its methyl homolog in or on the following raw agricultural commodities:

Commodity | Parts per million
Alfalfa (fresh) | 1.25
Alfalfa (hay) | 5
Almonds | 0.1
Almond hulls | 3
Apricots | 1
Avocados | 1
Barley | 1
Beans, dried | 1
Beets, sugar | 0.1
Beets, sugar, (tops) | 0.1
Blackberries | 1
Blueberries (huckleberries) | 1
Boysenberries | 1
Cabbage | 1
Clover | 1
Corn | 1
Corn, forage | 1
Cotton, seed | 0.75
Cranberries | 1
Cucumbers | 1
Currants | 1
Dates | 1
Dewberries | 1
Eggplants | 1
Endive (escarole) | 1
Figs | 1
Filberts | 0.1
Garlic | 1
Gooseberries | 1
Grass (forage) | 1
Guavas | 1
Hops | 1
Mangos | 1
Melons | 1
Mustard seed | 0.2
Oats | 1
Okra | 1
Olives | 1
Onions | 1
Parsnips (with or without tops) | 1
Parsnip greens (alone) | 1
Peanuts | 1
Peas, dried | 1
Pea, forage | 1
Pecans | 0.1
Peppers | 1
Pineapples | 1
Potatoes | 0.1
Pumpkins | 1
Quinces | 1
Radish (with or without tops) | 1
Radish (tops) | 1
Rape, seed | 0.2
Raspberries | 1
Rice | 1
Safflower seed | 0.1
Sorghum | 0.1
Sorghum, fodder | 3
Sorghum forage | 3
Soybeans | 0.1
Soybean hay | 1
Squash | 1
Strawberries | 1
Summer squash | 1
Sunflower seed | 0.2
Sweet potatoes | 0.1
Swiss chard | 1
Walnuts | 0.1
Wheat | 1
Youngberries | 1

(2) Tolerances are established for residues of the insecticide parathion (O,O-Dimethyl-O-p-nitrophenyl thiophosphate) the methyl homolog of parathion in or on the following raw agricultural commodities:

Commodity | Parts per million
Guar beans | 0.2
Parsley | 1

(3) Tolerances are established for residues of the insecticide parathion (O,O-Dimethyl-O-p-nitrophenyl thiophosphate) (ethyl parathion) in or on the following raw agricultural commodities:

Commodity | Parts per million
Apples | 1
Artichokes | 1
Beet greens (alone) | 1
Beets (with or without tops) | 1
Broccoli | 1
Brussels sprouts | 1
Carrots | 1
Cauliflower | 1
Celery | 1
Cherries | 1
Collards | 1
Grapes | 1
Kale | 1
Kohlrabi | 1
Lettuce | 1
Mustard greens | 1
Nectarines | 1
Peaches | 1
Pears | 1
Plums (fresh prunes) | 1
Rutabagas (with or without tops) | 1
Rutabaga tops | 1
Spinach | 1
Tomatoes | 1
Turnips (with or without tops) | 1
Turnip greens | 1
Vetch | 1

(b) Section 18 emergency exemptions. [Reserved]

(c) Tolerances with regional registrations. [Reserved]

(d) Indirect or inadvertent residues. [Reserved]

(e) Revoked tolerances subject to the channel of trade provisions. The following table lists commodities for which methyl parathion use was unlawful after December 31, 1999, and the revoked tolerances. Commodities with residues of methyl parathion resulting from lawful use are subject to the channels of trade provisions of section 408(1)(5) of the FFDCA.

Commodity | Parts per million
Apples | 1
Artichokes | 1
Beet greens (alone) | 1
Beets (with or without tops) | 1
Birdsfoot trefoil (forage) | 1.25
Birdsfoot trefoil (hay) | 5
Broccoli | 1
Brussels sprouts | 1
Carrots | 1
Cauliflower | 1
Celery | 1
Cherries | 1
Collards | 1
Grapes | 1
Kale | 1
Kohlrabi | 1
Lettuce | 1
Mustard greens | 1
Nectarines | 1
Peaches | 1
Pears | 1
Plums (fresh prunes) | 1
Rutabagas (with or without tops) | 1
Rutabaga tops | 1
Spinach | 1
Tomatoes | 1
Turnips (with or without tops) | 1
Turnip greens | 1
Vegetables leafy Brassica (cole) | 1
Vetch | 1

[FR Doc. 00-13311 Filed 6-1-00; 8:45 am]

BILLING CODE 6560-50-F